DEPARTMENT OF DEFENSE

Defense Acquisition Regulations System

48 CFR Parts 209, 215, 225, 249, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to update organization names and to add references to the DFARS companion resource, Procedures, Guidance, and Information.

EFFECTIVE DATE: May 31, 2007.

FOR FURTHER INFORMATION CONTACT: Ms. Michele Peterson, Defense Acquisition Regulations System, OUSD (AT&L) DPAP (DARS), IMD 3C132, 3062 Defense Pentagon, Washington, DC 20301-3062. Telephone (703) 602-0311; facsimile (703) 602-7887.

SUPPLEMENTARY INFORMATION: This final rule amends DFARS text to update organization names and office symbols, and to add references to internal DoD procedures found in the DFARS companion resource, Procedures, Guidance, and Information (PGI).

List of Subjects in 48 CFR Parts 209, 215, 225, 249, and 252

Government procurement.

Michele P. Peterson,
Editor, Defense Acquisition Regulations System.

Therefore, 48 CFR Parts 209, 215, 225, 249, and 252 are amended as follows:

1. The authority citation for 48 CFR Parts 209, 215, 225, 249, and 252 continues to read as follows:

Authority: 41 U.S.C. 421 and 48 CFR Chapter 1.

PART 209—CONTRACTOR QUALIFICATIONS 209.104-70 [Amended]

2. Section 209.104-70 is amended in paragraph (a), in the second sentence, by removing “(PAIC)” and adding in its place “(CPIC)”.

PART 215—CONTRACTING BY NEGOTIATION

3. Section 215.402 is added to read as follows:

215.402 Pricing policy.

Follow the procedures at PGI 215.402 when conducting cost or price analysis, particularly with regard to acquisitions for sole source commercial items.

4. Section 215.403-1 is amended as follows:

a. By revising the section heading;

b. By adding paragraph (b);

c. In paragraph (c)(3), by designating the text after “Commercial items.” as paragraph (B);

d. By adding paragraph (c)(3)(A);

e. In newly designated paragraph (c)(3)(B), in the second sentence, by removing “(c)(3)” and adding in its place “(c)(3)(B)”; and

f. In paragraph (c)(4)(A)(3), by revising the second sentence to read as follows:

215.403-1 Prohibition on obtaining cost or pricing data (10 U.S.C. 2306a and 41 U.S.C. 254b).

(b) Exceptions to cost or pricing data requirements. Follow the procedures at PGI 215.403-1(b).

(c) * * *

(3) * * *

(A) Follow the procedures at PGI 215.403-1(c)(3)(A) for pricing commercial items.

* * * * *

(4) * * *

(A) * * *

(3) * * * Follow the procedures at PGI 215.403-1(c)(4)(A) for determining when an exceptional case waiver is appropriate, for approval of such waivers, for partial waivers, and for waivers applicable to unpriced supplies or services.

* * * * *

5. Section 215.403-3 is added to read as follows:

215.403-3 Requiring information other than cost or pricing data.

Follow the procedures at PGI 215.403-3.

6. Section 215.404-1 is amended as follows:

a. By redesignating paragraph (a) as paragraph (2);

b. By adding paragraph (1); and

c. In newly designated paragraph (2), in the introductory text, by removing “General.”. The added text reads as follows:

215.404-1 Proposal analysis techniques.

(1) Follow the procedures at PGI 215.404-1 for proposal analysis.

* * * * *

PART 225—FOREIGN ACQUISITION

225.872-5 [Amended]

7. Section 225.872-5 is amended in paragraph (a), in the last sentence, by removing “Program Acquisition” and adding in its place “Contract Policy”.

225.872-6 [Amended]

8. Section 225.872-6 is amended in paragraph (b) by removing “Program Acquisition” and adding in its place “Contract Policy”.

PART 249—TERMINATION OF CONTRACTS

249.7000 [Amended]

9. Section 249.7000 is amended in paragraph (a)(1) by removing “Program Acquisition” and adding in its place “Contract Policy”.

PART 252—SOLICITATION PROVISIONS AND CONTRACT CLAUSES

252.225-7004 [Amended]

10. Section 252.225-7004 is amended as follows:

a. By revising the clause date to read “(MAY 2007)”;

b. In paragraph (c)(5), by removing “Program Acquisition” and adding in its place “Contract Policy”; and

c. In paragraph (c)(5), by removing “(PAIC)” and adding in its place “(CPIC)”.

252.225-7006 [Amended]

11. Section 252.225-7006 is amended as follows:

a. By revising the clause date to read “(MAY 2007)”;

b. In paragraph (d), by removing “Program Acquisition” and adding in its place “Contract Policy”; and

c. In paragraph (d), by removing “(PAIC)” and adding in its place “(CPIC)”.

[FR Doc. E7-10336 Filed 5-30-07; 8:45 am]

BILLING CODE 5001-08-P